DEPARTMENT OF COMMERCE

Foreign-Trade Zones Board

[Order No. 1196]

Grant of Authority for Subzone Status; Sony Technology Center—Pittsburgh (Televisions, Specialty Chemicals, Thermal Transfer Ribbon), Mt. Pleasant, PA

Pursuant to its authority under the Foreign-Trade Zones Act, of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Regional Industrial Development Corporation of Southwestern Pennsylvania, grantee of Foreign-Trade Zone 33, has made application to the Board for authority to establish a special-purpose subzone at the television manufacturing and warehousing facilities (televisions, specialty chemicals and thermal transfer ribbon) of the Sony Technology Center-Pittsburgh, located in Mt. Pleasant, Pennsylvania (FTZ Docket 18-2001, filed 4/23/01);

Whereas, notice inviting public comment was given in the Federal Register 66 FR 21740, 5-1-01); and,

Whereas, the Board adopts the findings and recommendations of the examiner's report, and finds that the requirements of the FTZ Act and the Board's regulations are satisfied, and that approval of the application is in the public interest;

Now, Therefore, the Board hereby grants authority for subzone status at the television manufacturing and warehousing facilities of the Sony Technology Center-Pittsburgh, located in Mt. Pleasant, Pennsylvania (Subzone 33C), at the location described in the application, and subject to the FTZ Act and the Board's regulations, including § 400.28. The scope of authority includes the manufacture of finished and unfinished televisions and television tubes as described in the Federal Register notice initiating the review (66 FR 21740, 5/1/01) and in the examiner's report.

Signed at Washington, DC, this 27th day of September 2001.
Faryar Shirzad,
Assistant Secretary of Commerce for Import Administration, Alternate Chairman, Foreign-Trade Zones Board.
Attest:
Dennis Puccinelli,
Executive Secretary.

[FR Doc. 01-26129 Filed 10-16-01; 8:45 am]

BILLING CODE 3510-DS-P